DEPARTMENT OF TRANSPORTATION

Federal Aviation Administration

Office of Commercial Space Transportation (AST); Notice of Availability of the Record of Decision (ROD) for the Federal Aviation Administration (FAA)/AST To Issue, Renew, or Modify Launch Operator Licenses for Launch Vehicles Covered Under the Evolved Expendable Launch Vehicle (EELV) Program, Which Include Atlas V and Delta IV Vehicles, From Cape Canaveral Air Force Station (CCAFS), Florida and Vandenberg Air Force Base (VAFB), California

AGENCY: Federal Aviation Administration, DOT.

ACTIONS: Notice of Availability.

SUMMARY: In accordance with the National Environmental Policy Act (NEPA) of 1969, 42 United States Code U.S.C. 4321-4347 (as amended), Council on Environmental Quality (CEQ) NEPA implementing regulations (40 Code of Federal Regulations [CFR parts 1500-1508]), and FAA Order 1050.1E, Change 1, the FAA is announcing the availability of its ROD for the FAA/AST to issue, renew, or modify launch operator licenses for launch vehicles covered under the EELV Program from CCAFS and VAFB. The ROD was prepared to document FAA/AST's decision to issue, renew, or modify launch operator licenses for launch vehicles covered under the EELV Program from CCAFS and VAFB.

The FAA participated as a cooperating agency with the U.S. Air Force (USAF) in the preparation of the 1998 Final Environmental Impact Statement for the EELV Program (1998 FEIS) and the 2000 Supplemental Environmental Impact Statement for the EELV Program (2000 SEIS). The 1998 FEIS preferred alternative analyzed a maximum of 30 combined FAA/AST-licensed launches and non-FAA/AST licensed launches of Atlas V and Delta IV in one year from VAFB and CCAFS, combined. The 2000 SEIS analyzed the environmental impacts of up to five solid-propellant strap-on rocket motors (SRMs) on the Atlas V medium lift vehicle and larger SRMs on the Delta IV vehicle. In addition, the 2000 SEIS considered a maximum of 33 combined FAA/AST-licensed launches and non-FAA/AST licensed launches of Atlas V and Delta IV occurring in one year from VAFB and CCAFS, combined. The USAF issued RODs based on the findings of the 1998 FEIS and the 2000 SEIS.

In 2003, changes in USAF programs resulted in a need for SLC-3E at VAFB to be used for Atlas V launches rather than SLC-3W as originally planned. In 2003, the USAF prepared a Final Environmental Assessment for the Atlas V System at SLC-3E (2003 EA). The EA supplemented and updated the previous NEPA evaluation of implementing the Atlas V program as analyzed in the 1998 FEIS and 2000 SEIS. The 2003 EA analyzed the environmental impacts associated with the proposed action of modifying existing facilities and roadways and launching the Atlas V up to four times annually from SLC-3E at VAFB. The FAA did not participate as a cooperating agency with the USAF in preparation of the 2003 EA, but has independently evaluated the information contained in the 2003 EA and has verified the continued validity of the analysis contained in the document. The FAA has therefore, adopted the 2003 EA and issued a Finding of No Significant Impact. The analysis from the 2003 EA and the FAA's findings on that analysis are incorporated by reference in the ROD, and therefore references from the 1998 FEIS and 2000 SEIS to SLC-3W at VAFB have been revised to read “SLC-3E” throughout the ROD.

Under the FAA's Proposed Action, FAA/AST could issue, renew, or modify launch operator licenses for Atlas V and Delta IV operations at CCAFS and VAFB. The 1998 FEIS and 2000 SEIS analyzed the full potential scope of the operations that could be covered under a launch operator license for Atlas V and Delta IV at CCAFS and VAFB. The FAA's Proposed Action has been identified as the Preferred Alternative.

Under the No Action Alternative, the FAA would not issue, renew, or modify launch operator licenses for Atlas V or Delta IV expendable launch vehicles at CCAFS and VAFB. Without a license, there could not be any FAA/AST-licensed commercial launches of Atlas V or Delta IV vehicles from CCAFS or VAFB; however, non-FAA/AST licensed or government launches of these vehicles could continue from both locations. The ROD addresses the potential environmental impacts of the FAA's Proposed Action and the FAA's No Action Alternative.

In accordance with the requirements of FAA Order 1050.1E, Change 1, paragraph 515, the FAA has independently evaluated the information contained in the 1998 FEIS and 2000 SEIS and has verified the continued validity of the analysis contained in both documents. Through this re-evaluation, the FAA has determined that the 1998 FEIS and 2000 SEIS sufficiently address the concerns of the FAA and comply with FAA requirements for implementing NEPA as stated in FAA Order 1050.1E, Change 1. The FAA has also determined that there is no new information or analysis that would require preparation of a new or supplemental EIS according to the CEQ Regulations (40 CFR 1502.9(c)(1)). The FAA is therefore adopting the 1998 FEIS and 2000 SEIS, and is using these documents to support its decision as stated in the ROD. The FAA has posted the ROD on the FAA Office of Commercial Space Transportation Web site at http://www.faa.gov/about/office_org/headquarters_offices/ast/.

Additional Information: Under the Proposed Action, the FAA/AST could issue, renew, or modify launch operator licenses for Atlas V and Delta IV operations at CCAFS and VAFB. The 1998 FEIS and 2000 SEIS analyzed the full potential scope of the operations that could be covered under a launch operator license for Atlas V and Delta IV at CCAFS and VAFB. The 1998 FEIS analyzed the operation of both medium and heavy lift expendable, orbital “concept vehicles” (later known as the Atlas V and Delta IV families of vehicles) from CCAFS and VAFB. Delta IV launches would occur from Space Launch Complex-37 (SLC-37) at CCAFS and from SLC-6 at VAFB; the Atlas V launches would occur from SLC-41 at CCAFS and from SLC-3E at VAFB. Under the preferred alternative in the 1998 FEIS, a maximum of 30 combined FAA/AST-licensed launches and non-FAA/AST licensed launches of Atlas V and Delta IV would occur in one year from VAFB and CCAFS, combined. Under the No Action Alternative, the USAF would not proceed with the development and deployment of the EELV program, and Atlas IIA, Delta II, and Titan IVB launch vehicles would continue to be used to support space launches to meet the requirements of the government.

Under the Proposed Action in the 2000 SEIS, up to five solid-propellant strap-on rocket motors (SRMs) would be added to the Atlas V medium lift vehicle and larger SRMs would be used on the Delta IV vehicle. The Atlas V vehicle would launch from SLC-41 at CCAFS and SLC-3E at VAFB, and the Delta IV vehicle would launch from SLC-37 at CCAFS and SLC-6 at VAFB. While use of SRM-assisted vehicles was considered in the 1998 FEIS, the 2000 SEIS considered a higher proportion of vehicles using SRM-assisted vehicles than the 1998 FEIS. Under the Proposed Action in the 2000 SEIS, a maximum of 33 combined FAA/AST-licensed launches and non-FAA/AST licensed launches of Atlas V and Delta IV would occur in one year from VAFB and CCAFS, combined. Under the No Action Alternative, the EELV program would continue, except that SRMs would not be added to the Atlas V launch vehicles and smaller SRMs would be used on Delta IV launch vehicles.

The FAA has determined the analysis of impacts presented in the 1998 FEIS and 2000 SEIS represents the best available information regarding the potential impacts associated with the FAA's regulatory responsibilities described in the ROD. The 1998 FEIS and 2000 SEIS are therefore incorporated by reference and summarized as necessary in the ROD.

Resource areas were considered to provide a context for understanding and assessing the potential environmental effects of the FAA's Proposed Action, with attention focused on key issues. The resource areas considered in the ROD include air quality; biological resources; cultural resources; geology and soils; land use and section 4(f) resources; noise; physical resources (Water Resources [Surface Water, Ground Water, Floodplains], Hazardous Materials, Pollution Prevention, and Solid Waste); and socioeconomics, environmental justice, and children's environmental health and safety. Potential cumulative impacts of the Proposed Action are also addressed in the ROD.

FOR FURTHER INFORMATION CONTACT: Mr. Daniel A. Czelusniak, Environmental Program Lead, Office of Commercial Space Transportation, Federal Aviation Administration, 800 Independence Ave., SW., Suite 325, Washington, DC 20591, by e-mail at Daniel.Czelusniak@faa.gov or by phone at (202) 267-5924.

Issued in Washington, DC, on August 12, 2011.
Michael McElligott,
Manager, Space Transportation Development Division.

[FR Doc. 2011-21045 Filed 8-17-11; 8:45 am]

BILLING CODE 4910-13-P